DEPARTMENT OF TRANSPORTATION

Federal Aviation Administration

Second Meeting, RTCA Special Committee 220: Automatic Flight Guidance and Control

AGENCY: Federal Aviation Administration (FAA), DOT.

ACTION: Notice of RTCA Special Committee 220: Automatic Flight Guidance and Control meeting.

SUMMARY: The FAA is issuing this notice to advise the public of a meeting of RTCA Special Committee 220: Automatic Flight Guidance and Control.

DATES: The meeting will be held January 13-15, 2009, from 9 a.m.-5 p.m.

ADDRESSES: The meeting will be held at Honeywell, Inc., PRN A and B Rooms, 21111 N. 19th Ave., Phoenix, AZ 85027.

FOR FURTHER INFORMATION CONTACT: (1) RTCA Secretariat, 1828 L Street, NW., Suite 805, Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Special Committee 220/Automatic Flight Guidance and Control meeting. The agenda will include:

January 13-15

• Welcome

• Agenda Overview

• Results of Presentation to October PMC

• Installation Guidance Discussion

• MOPS Status

• Installation Guidance Status

• Revise TORs

• Organization of Work, Assign Tasks and Responsibilities

• Establish Dates, Location, Agenda for Next Meeting

• Any Other Business

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on December 5, 2008.
Francisco Estrada C.,
RTCA Advisory Committee.

[FR Doc. E8-29539 Filed 12-12-08; 8:45 am]

BILLING CODE 4910-13-P